DEPARTMENT OF LABOR

Office of the Secretary

Agency Information Collection Activities; Submission for OMB Review; Comment Request; Ventilation Plans, Tests, and Examinations in Underground Coal Mines

ACTION: Notice.

SUMMARY: The Department of Labor (DOL) is submitting the Mine Safety and Health Administration (MSHA) sponsored information collection request (ICR) revision titled, “Ventilation Plans, Tests, and Examinations in Underground Coal Mines,” to the Office of Management and Budget (OMB) for review and approval for use in accordance with the Paperwork Reduction Act (PRA) of 1995 (44 U.S.C. 3501 et seq.). Public comments on the ICR are invited.

DATES: The OMB will consider all written comments that agency receives on or before August 28, 2015.

ADDRESSES: A copy of this ICR with applicable supporting documentation; including a description of the likely respondents, proposed frequency of response, and estimated total burden may be obtained free of charge from the RegInfo.gov Web site at http://www.reginfo.gov/public/do/PRAViewICR?ref_nbr=201406-1219-005 (this link will only become active on the day following publication of this notice) or by contacting Michel Smyth by telephone at 202-693-4129, TTY 202-693-8064, (these are not toll-free numbers) or sending an email to DOL_PRA_PUBLIC@dol.gov.

Submit comments about this request by mail or courier to the Office of Information and Regulatory Affairs, Attn: OMB Desk Officer for DOL-MSHA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Contact Michel Smyth by telephone at 202-693-4129, TTY 202-693-8064, (these are not toll-free numbers) or sending an email to DOL_PRA_PUBLIC@dol.gov.

SUPPLEMENTARY INFORMATION: This ICR seeks approval under the PRA for revisions to the Ventilation Plans, Tests, and Examinations in Underground Coal Mines information collection requirements codified in regulations 30 CFR 75.310, 75.312, 75.342, 75.351, 75.360 through 75.364, 75.370, 75.371, and 75.382. An underground mine is a maze of tunnels that must be adequately ventilated with fresh air to provide a safe environment for miners. Ground conditions are subject to frequent changes, and mechanical ventilation equipment of sufficient capacity must operate at all times while miners are in the mine; therefore, sufficient tests and examinations are necessary to ensure the integrity of the ventilation system and to detect any changes that may require adjustments in the system. Records of tests and examinations are necessary to ensure the ventilation system is being maintained and changes that could adversely affect the integrity of the system or the safety of the miners are not occurring. The subject examination, reporting, and recordkeeping requirements also incorporate examinations of other critical aspects of the underground work environment, such as roof conditions and electrical equipment that have historically caused numerous fatalities if not properly maintained and operated. This information collection has been classified as a revision, because of additional provisions to this collection from regulations 30 CFR 75.362, 75.370, and 75.371 resulting from a final rule published May 1, 2014 (79 FR 24814). Federal Mine Safety and Health Act of 1977 section 101(a) authorizes this information collection. See 30 U.S.C. 811(a).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1219-0088. The current approval is scheduled to expire on July 31, 2015; however, the DOL notes that existing information collection requirements submitted to the OMB receive a month-to-month extension while they undergo review. New requirements would only take effect upon OMB approval. For additional substantive information about this ICR, see the related notice published in the Federal Register on April 14, 2015 (80 FR 20015).

Interested parties are encouraged to send comments to the OMB, Office of Information and Regulatory Affairs at the address shown in the ADDRESSES section within thirty (30) days of publication of this notice in the Federal Register. In order to help ensure appropriate consideration, comments should mention OMB Control Number 1219-0088. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-MSHA.

Title of Collection: Ventilation Plans, Tests, and Examinations in Underground Coal Mines.

OMB Control Number: 1219-0088.

Affected Public: Private Sector-businesses or other for-profits.

Total Estimated Number of Respondents: 434.

Total Estimated Number of Responses: 1,902,012.

Total Estimated Annual Time Burden: 313,624 hours.

Total Estimated Annual Other Costs Burden: $118,982.

Authority: 44 U.S.C. 3507(a)(1)(D).

Dated: July 15, 2015.
Michel Smyth,
Departmental Clearance Officer.

[FR Doc. 2015-18546 Filed 7-28-15; 8:45 a.m.]

BILLING CODE 4510-02-P